DEPARTMENT OF THE INTERIOR

National Park Service

Notice of Intent To Prepare an Environmental Impact Statement for Cottonwood Cove and Katherine Landing Development Concept Plans; Lake Mead National Recreation Area; Clark County, NV and Mohave County, AZ

AGENCY: National Park Service.

ACTION: Notice of intent to prepare an Environmental Impact Statement.

SUMMARY: The National Park Service is initiating the conservation planning and environmental impact analysis process for new development concept plans for the Cottonwood Cove and Katherine Landing developed areas at Lake Mohave in the Lake Mead National Recreation Area. A range of reasonable alternatives will be developed through this EIS process and will include, at a minimum, a no-action (baseline) alternative and the agency-preferred alternative: the “environmentally preferred” course of action will also be identified.

DATES: Written comments must be postmarked or transmitted no later than October 14, 2008. We will announce the dates and places of public meetings in the local media.

ADDRESSES: You may submit written comments to the planning team by mailing comments to Lake Mead National Recreation Area, Attn: DCP-EIS, 601 Nevada Highway, Boulder City, NV 89005 (you may also comment electronically at http://parkplanning.nps.gov/lame).

FOR FURTHER INFORMATION CONTACT: Mr. Jim Holland, Park Planner, Lake Mead National Recreation Area, (702) 293-8986.

SUPPLEMENTARY INFORMATION; Background: The National Recreation Area encompasses Lake Mead to the north formed by Hoover Dam and Lake Mohave to the south created by Davis Dam. Cottonwood Cove and Katherine Landing are two of the major developed areas on Lake Mohave. Cottonwood Cove is located on the Nevada shore of the lake, approximately 22 miles north of Davis Dam. The development was designed in a somewhat linear fashion up the wash (a dry streambed subject to occasional water flows), away from the lakefront, rather than along the shore. Katherine Landing is located near the southern end of the lake in Arizona, approximately 1.5 miles north of the Davis Dam. The majority of development lies within Katherine Wash, but also extends to the north, encompassing South and North Telephone Cove, Cabinsite Cove, and Princess Cove. Both developments accommodate a wide variety of recreational activities and provide public launch facilities and commercial marina services as well as other public use and support facilities.

Purpose and Need: The 1986 Lake Mead National Recreation Area General Management Plan (1986 GMP) addresses the need to provide recreational opportunities while preserving and protecting natural and cultural resources. The 1986 GMP established land-based management zones and included development concept plans for the Cottonwood Cove and Katherine Landing that identify limits on the development, establish the number and type of facilities for the development, and address flood hazards. The 1986 GMP's vision for both areas is to accommodate increasing use, enhance the visitor experience, and mitigate flood hazards.

The 2003 Lake Mead National Recreation Area Lake Management Plan (2003 LMP) further refined management of Lakes Mead and Mohave, the associated shorelines, and developed areas to ensure protection of park resources while allowing a range of recreational opportunities to support visitor needs. At Cottonwood Cove, the 2003 LMP authorized an increase in boating capacity and called for separation of public and commercial marina operations. At Katherine Landing, the 2003 LMP maintained existing boating capacities and provided for separating recreational activities.

The purpose of the subject Cottonwood Cove and Katherine Landing development concept plans is to revisit the implementation strategies identified in the 1986 GMP end 2003 LMP. A number of the management actions identified in both approved plans require more site specific development planning, including a transportation analysis to evaluate parking and traffic circulation and an economic feasibility study of concession operations, prior to implementation. The subject development concept plans will be consistent with the management direction established in both previous plans, including the purpose and significance statements, management zoning designations, and overall strategies for managing each developed area, although specific actions (e.g., facility locations, roadway circulation) could differ from those recommended in the previous plans.

Preliminary Issues: The park's preliminary assessment of issues and conditions which warrant a new and detailed examination of development and operational needs for Cottonwood Cove and Katherine Landing include the following:

○ Congestion and conflicts between users is a key issue to be resolved, which derives from numerous people, facilities, and activities occurring within the limited land based areas of both developments. The areas require a focused analysis of development needs, including a parking and circulation assessment, to identify possible facility improvement, relocation, and expansion. Facility development must be consistent with the approved lake carrying capacity.

○ Both developed areas contain Mission 66-era historic districts, structures, and cultural landscapes eligible for inclusion in the National Register of Historic Places. The Mission 66 program was a large scale effort by the NPS to upgrade national park infrastructure after World War II. Planning must evaluate strategies to balance the need for preserving cultural resources while providing a more functional development layout end facilities in keeping with contemporary design standards and visitor needs.

○ With the growth of communities outside of the park near both development areas, there is a need to evaluate which services and support facilities are necessary and appropriate at Cottonwood Cove and Katharine Landing, and which services should be accommodated outside of the park.

○ Concession services and facilities support a variety of visitor activities. Economic feasibility of all concession operations needs to be evaluated for any preliminary development proposals that may affect facilities operated by the park's concession.

○ Cottonwood Cove and Katherine Landing are both high hazard areas for flash flooding. Flood mitigation is of paramount importance to assure public safety and protection of property. Design for structural flood protection at both developments has been updated and needs to be integrated into the implementation planning.

Public Involvement: Public and agency involvement will be solicited at key steps in the overall EIS process including initial scoping, drafting of preliminary alternatives, and review of the draft development concept plan/EIS. The objectives of the public scoping phase include: (1) Encourage broad participation from federal, tribal, state, local governments and other interested parties; (2) Inform all interested parties about the scope of the problem and the need to find solutions; (3) Identify a preliminary range of management options (in addition to a no-action alternative that maintains existing conditions, and which serves a baseline from which proposed management changes can be compared and evaluated); (4) Identify relevant natural and cultural resources, recreational uses, socioeconomic and other factors which warrant detailed environmental impact analysis, and eliminate issues or topics which do not require analysis; (5) Identify potential environmental impacts and suitable mitigation strategies sufficient to avoid unacceptable impacts and impairment of park resources and values.

The NPS encourages early participation from federal and state agencies, Native Americans, local governments, private organizations, businesses, recreational users, and the public in identifying the spectrum of issues which should be addressed in this ElS. If you wish to comment on any issues or provide relevant environmental information, you may submit written comments to the planning team at the address as noted above. Before including your address, phone number, e-mail address, or other personal identifying information in your comment, you should be aware that your entire comment-including your personal identifying information-may be made publicly available at any time. While you can ask us in your comment to withhold from public review your personal identifying information, we cannot guarantee that we will be able to do so.

At this time, it is anticipated that a series of public meetings will be hosted in neighboring communities during August-September, 2008; confirmed dates and locations will be announced through local and regional media, direct park mailings, and via updates posted on the park's Web site and on the NPS Planning, Environment & Public Comment Web site (http://parkplannlng.nps.gov/lame).

Decision Process: Formal announcement of the availability of the Draft EIS will be published in the Federal Register, through local and regional media and the park and NPS Web sites and through distribution of the document to public libraries. Following due consideration of all comments received, a Final EIS will be prepared. As a delegated EIS, the official responsible for a final decision is the Regional Director, Pacific West Region. Subsequently the official responsible for implementing the approved development concept plans and for monitoring results is the Superintendent, Lake Mead National Recreation Area.

Dated: May 15, 2008.
George J. Turnbull,
Acting Regional Director, Pacific West Region.

[FR Doc. E8-18661 Filed 8-12-08; 8:45 am]

BILLING CODE 4312-A7-M